DEPARTMENT OF TRANSPORTATION

Federal Highway Administration

Supplemental Environmental Impact Statement: Shelby Avenue/Demonbreun Street (Gateway Boulevard) Corridor, Davidson County, TN

AGENCY: Federal Highway Administration (FHWA), DOT.

ACTION: Supplemental notice of intent.

SUMMARY: The Federal Highway Administration (FHWA) is issuing this notice to advise the public of its intent to prepare a Supplemental Environmental Impact Statement in cooperation with the Tennessee Department of Transportation (TDOT) and the Metropolitan Government of Nashville and Davidson County for the Shelby Avenue/Demonbreun Street (Gateway Boulevard) Corridor in Davidson County, Tennessee.

FOR FURTHER INFORMATION CONTACT: Ms. Laurie S. Leffler, Assistant Division Administrator, Federal Highway Administration-Tennessee Division Office, 640 Grassmere Park Road, Suite 112, Nashville, TN 37211.

SUPPLEMENTARY INFORMATION: The U.S. Department of Transportation Federal Highway Administration (FHWA), in cooperation with the Tennessee Department of Transportation (TDOT) and the Metropolitan Government of Nashville and Davidson County, intends to prepare a Supplemental Environmental Impact Statement (Supplemental EIS) for Shelby Avenue/Demonbreun Street (Gateway Boulevard) Corridor. This project is intended to enhance east-west transportation linkages and improve accessibility to the current Nashville Central Business District (CBD) and for future development in the CBD.

A Final Environmental Impact Statement (FEIS) (FHWA-TN-EIS-96-01-F) for the project was approved and released for public review on July 1, 1998, and a Record of Decision (ROD) was issued on September 15, 1998.

A portion of this project has been constructed. The Korean Veterans Memorial Bridge over the Cumberland River and the section of Gateway Boulevard from 1st Avenue South to 4th Avenue South have been completed and are open to traffic. The Supplemental EIS is being prepared to address the remaining unbuilt portion of the project's selected alignment (Alternative 8) between 4th Avenue South and 13th Avenue South.

Under the selected alternative identified in the ROD, the structurally deficient Demonbreun Street Viaduct would have been demolished and a new structure would have been built across the Railroad Gulch from west of 11th Avenue to the project's western terminus at 13th Avenue. Since issuance of the ROD, the Demonbreun Street Viaduct has been rehabilitated and is no longer considered structurally deficient.

As a result of major land use changes within the original project area since the ROD was issued, the environmental technical studies for the corridor must be updated before the remainder of the project between 4th and 13th Avenues can be advanced. Major new civic investments in the area include the Country Music Hall of Fame, the Frist Center for the Visual Arts, the Symphony Hall, and Hilton Park. In addition, the previously industrialized Railroad Gulch is being redeveloped with new commercial and office spaces, along with several major high-rise residential developments under construction, and more land use changes in the Gulch anticipated in the near future.

Letters describing the supplemental environmental studies and soliciting input will be sent to the appropriate Federal, State, regional and local agencies that have expressed or are known to have an interest or legal role in this proposal. Private organizations, citizens, and interest groups will have an opportunity to provide input into the development of the Supplemental EIS, and to identify issues that should be addressed. Notices of public meetings or public hearings will be given through various forums, providing the time and place of the meeting along with other relevant information. The Supplemental DEIS will be available for public and agency review and comment prior to the public hearing.

To ensure that the full range of issues related to the proposed action are identified and taken into account, comments and suggestions are invited from all interested parties. Comments and questions concerning the proposed action and Supplemental EIS should be directed to FHWA at the address provided above.

Laurie S. Leffler,
Assistant Division Administrator, Nashville, TN.

[FR Doc. E7-22126 Filed 11-9-07; 8:45 am]

BILLING CODE 4910-22-P